DEPARTMENT OF LABOR

Employment and Training Administration

[NAFTA-4631 and TA-W-38,855]

Willamette Industries, Inc., Foster Plywood Division, Sweet Home, OR; Notice of Revised Determination on Reconsideration

By letter (postmark) of May 22, 2001, the International Association of Machinists & Aerospace Workers, Woodworkers (IAMAW), Local Lodge W246, requested administrative reconsideration of the Department's denial of North American Free Trade Agreement—Transitional Adjustment Assistance (NAFTA-TAA) and Trade Adjustment Assistance (TAA), applicable to workers of Willamette Industries, Inc., Foster Plywood Division, Sweet Home, Oregon. The notices were published in the Federal Register on May 2, 2001, NAFTA-4631 (66 FR 22007), and TA-W-38,855 (66 FR 22006).

The workers at the subject firm engaged in activities related to the production of plywood were denied NAFTA-TAA because criteria (1) and (2) of the group eligibility requirements of paragraph (a)(1) of Section 250 of the Trade Act of 1974, as amended, were not met. The number of workers separated did not account for a significant portion of total workers at the subject firm and there were no declines in sales or production of plywood at the subject firm.

The same worker group was denied TAA because criteria (1) and (2) of the group eligibility requirements of Section 222 of the Trade Act of 1974, as amended, was not met. The number of workers separated did not account for a significant portion of total workers at the subject firm and there were no declines in sales or production of plywood at the subject firm.

The request for reconsideration indicates that the worker group impacted at the subject plant were engaged in activities related to the production of veneer core. The request further indicates that veneer core production decreased at the subject plant. The original determinations were based on the workers engaged in activities related to the production of plywood and workers not being separately identifiable at the subject plant. Upon examination of the request it has become apparent that the workers engaged in the production of veneer core (which is integrated into plywood production at the subject plant) are separately identifiable from the workers producing plywood. Also, layoffs within the worker group producing veneer core are significant. The review further reveals that the plant decreased their veneer core production, while increasing their imports of veneer core from Canada during the relevant period.

Conclusion

After careful consideration of the new facts obtained on reconsideration, it is concluded that increased imports of veneer core, including imports from Canada, contributed importantly to the decline in production and to the total or partial separation of workers at Willamette Industries, Inc., Foster Plywood Division, Sweet Home, Oregon. In accordance with the provisions of the Act, I make the following revised determination:

“Workers engaged in the production of veneer core at Willamette Industries, Inc., Foster Plywood Division, Sweet Home, Oregon, who became totally or partially separated from employment on or after March 1, 2000, through two years from the date of certification, are eligible to apply for NAFTA-TAA under Section 250 of the Trade Act of 1974;” and

“Workers engaged in the production of veneer core at Willamette Industries, Inc., Foster Plywood Division, Sweet Home, Oregon, who became totally or partially separated from employment on or after March 1, 2000, through two years from the date of certification, are eligible to apply for adjustment assistance under Section 223 of the Trade Act of 1974.”

Signed at Washington, DC, this 28th day of September 2001.
Edward A. Tomchick,
Director, Division of Trade Adjustment Assistance.

[FR Doc. 01-26355 Filed 10-18-01; 8:45 am]

BILLING CODE 4510-30-M